DEPARTMENT OF COMMERCE

National Oceanic and Atmospheric Administration

Agency Information Collection Activities; Submission to the Office of Management and Budget (OMB) for Review and Approval; Comment Request; Alaska Chinook Salmon Economic Data Reports (EDR)

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 15, 2021.

ADDRESSES: Interested persons are invited to submit written comments to Adrienne Thomas, NOAA PRA Officer, at Adrienne.thomas@noaa.gov. Please reference OMB Control Number 0648-0633 in the subject line of your comments. Do not submit Confidential Business Information or otherwise sensitive or protected information.

FOR FURTHER INFORMATION CONTACT: Requests for additional information or specific questions related to collection activities should be directed to Scott Miller, 907-586-7416, scott.miller@noaa.gov.

SUPPLEMENTARY INFORMATION:

I. Abstract

The National Marine Fisheries Service (NMFS), Alaska Regional Office, is requesting renewal of the currently approved information collection for the Chinook Salmon Economic Data Report Program.

National Marine Fisheries Service (NMFS) manages the Bering Sea pollock fishery under the American Fisheries Act (AFA) (16 U.S.C. 1851). AFA fishing vessels harvest pollock in the Bering Sea pollock fishery using pelagic (midwater) trawl gear, which consists of large nets towed through the water by the vessel. At times, Chinook salmon and pollock occur in the same locations in the Bering Sea; consequently, Chinook salmon are incidentally caught in the nets as pollock is harvested. This incidental catch is called bycatch and is also called prohibited species catch (PSC).

The Chinook Salmon Economic Data Report (Chinook Salmon EDR) Program provides NMFS and the North Pacific Fishery Management Council (Council) with data to evaluate the effectiveness of Chinook salmon bycatch management measures for the Bering Sea pollock fishery that were implemented under Amendment 91 to the Fishery Management Plan for Groundfish of the Bering Sea and Aleutian Islands Management Area (75 FR 53026, August 30, 2010). The Chinook Salmon EDR Program provides information to the analysts and the Council and is intended to evaluate the effectiveness of the Chinook Salmon Incentive Plan Agreement (IPA) (see OMB Control No. 0648-0401). The Chinook Salmon EDR Program is intended to evaluate where, when, and how pollock fishing and salmon bycatch occur and to provide data to study and verify conclusions drawn by industry in the IPA annual reports.

The Chinook Salmon EDR Program is managed primarily by the Alaska Fisheries Science Center, with support from NMFS Alaska Region, and is administered in collaboration with Pacific States Marine Fisheries Commission (Pacific States). The EDR is a mandatory reporting requirement under 50 CFR 679.65 for all entities participating in the AFA BSAI pollock trawl fishery, including vessel masters and businesses that own or lease one or more AFA‐permitted vessels active in fishing or processing BSAI pollock, Western Alaska Community Development Quota (CDQ) groups receiving allocations of BSAI pollock, and representatives of sector entities receiving allocations of Chinook salmon PSC from NMFS.

The Chinook Salmon EDR Program consists of three separate forms:

• Chinook PSC Allocation In-season Compensated Transfer Report—Collects transfer and monetary compensation information for Chinook salmon PSC allocations.

• Vessel Fuel Survey—Collects fuel consumption and average fuel costs.

• Vessel Master Survey—Collects vessel master impressions of fishing experiences during the year and of Chinook salmon PSC avoidance efforts.

The Chinook Salmon EDR Program also includes a means for NMFS to verify the data submitted in the Compensated Transfer Report. These collections are unchanged since the previous renewal in 2018.

II. Method of Collection

The Compensated Transfer Report, Vessel Fuel Survey, and Vessel Master Survey are completed and submitted using the economic data reporting web application on the Pacific States Marine Fisheries Commission website at https://www.psmfc.org//chinookedr/. In 2019, NMFS discontinued automated auditing of EDR Program reporting. Audits will now only be conducted in cases of suspected gross noncompliance. Future audits will be conducted by a designated auditor and an audit report will be provided to NMFS electronically.

III. Data

OMB Control Number: 0648-0633.

Form Number(s): None.

Type of Review: Regular submission (extension of a current information collection).

Affected Public: Business or other for-profit organizations.

Estimated Number of Respondents: 117.

Estimated Time per Response: Compensated Transfer Report: 40 hours; Vessel Fuel Survey: 4 hours; Vessel Master Survey: 4 hours; CTR Verification Audit: 4 hours.

Estimated Total Annual Burden Hours: 728 hours.

Estimated Total Annual Cost to Public: $0.

Respondent's Obligation: Mandatory.

Legal Authority: American Fisheries Act (16 U.S.C. 1851); Magnuson-Stevens Fishery Conservation and Management Act (16 U.S.C. 1801 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-00552 Filed 1-12-21; 8:45 am]

BILLING CODE 3510-22-P